DEPARTMENT OF THE TREASURY

Submission for OMB Review; Comment Request

February 5, 2009.

The Department of the Treasury has submitted the following public information collection requirement(s) to OMB for emergency review, and it has been approved under the Paperwork Reduction Act of 1995, Public Law 104-13. To allow interested persons to comment on this information collection, the Department is publishing this notice and plans to submit a request for a three-year extension of OMB's approval. Copies of the submission(s) may be obtained by calling the Treasury Bureau Clearance Officer listed. Comments regarding this information collection should be addressed to the Agency reviewer listed below and to the Treasury Department Clearance Officer, Department of the Treasury, Room 11020, 1750 Pennsylvania Avenue, NW., Washington, DC 20220.

Dates: Written comments should be received on or before April 13, 2009 to be assured of consideration.

Office of the Special Inspector General, Troubled Asset Relief Program

OMB Number: 1505-0212.

Type of Review: New Collection.

Title: Use of TARP Funds and Compliance with Executive Compensation Issues.

Purpose of the Information Collection: The Emergency Economic Stabilization Act of 2008, which established the TARP, also created SIGTARP. SIGTARP is responsible for coordinating and conducting audits and investigations of any program established by the Secretary of the Treasury under the act. One of SIGTARP's primary areas of focus is ensuring, to the fullest extent possible, transparency in the operation of TARP. Increasingly, members of the Congress, the press, and the public have expressed frustration with the opaque nature of TARP operations, and they have raised questions about (1) the use funding provided by the Federal government under the various TARP programs; and (2) efforts to restrain excessive executive compensation. The questionnaires that are the subject of this notice are limited in scope to these questions, and are intended to accommodate a September 2009 report to Congress.

Summary of Proposal

(1) Number of forms submitted: One.

(2) Title of form: Use of TARP Funds and Compliance with Executive Compensation Issues.

(3) Type of request: New.

(4) Frequency of use: Single data gathering scheduled for 2009.

(5) Description of respondents: TARP recipients.

(6) Estimated number of respondents: Based upon current program participants, the questionnaires initially will be sent to 350 respondents.

(7) Estimated total number of hours for all respondents combined to complete the form: 1,750.

(8) Information obtained from the form that qualifies as confidential business information will be so treated by SIGTARP, and not disclosed in a manner that would reveal the individual operations of a TARP recipient.

Additional Information or Comment: Requests for additional information or copies of the questionnaire and instructions should be directed to Barry W. Holman, Deputy Inspector General for Audit, at (202) 622-4633. Comments about the proposals should be directed to Mr. Holman at Office of the Special Inspector General for Troubled Asset Relief Program, Department of the Treasury, 1500 Pennsylvania Ave., Washington, DC 20220. All comments should be specific, indicating which part of the questionnaire is objectionable, describing the concern in detail, and including specific suggested revisions or language changes.

Robert Dahl,
Treasury PRA Clearance Officer.

[FR Doc. E9-2817 Filed 2-10-09; 8:45 am]

BILLING CODE 4810-25-P